NATIONAL AERONAUTICS AND SPACE ADMINISTRATION

[Notice: 12-097]

Notice of Information Collection

AGENCY: National Aeronautics and Space Administration (NASA).

ACTION: Notice of information collection

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: Interested persons are invited to submit written comments on the proposed information collection to the Office of Information and Regulatory Affairs, Office of Management and Budget, 725 17th Street NW., Washington, DC 20503, Attention: Desk Officer for the Office of NASA.

FOR FURTHER INFORMATION CONTACT: Requests for additional information or copies of the information collection instrument(s) and instructions should be directed to Frances Teel, NASA Clearance Officer, NASA Headquarters, 300 E Street SW., JF0000, Washington, DC 20546, Frances.C.Teel@nasa.gov.

SUPPLEMENTARY INFORMATION:

I. Abstract

The NASA Summer of Innovation (SoI) Project FY2013 will engage and support external partners in the delivery of science, technology, engineering, and math (STEM) opportunities to youth in underrepresented populations through a summer camp/summer learning program. The intent is to increase interest and participation in STEM. The NASA SoI FY2013 project will focus on rising 6th through 8th grade students. This clearance request pertains to the administration of parent surveys, youth surveys, and teacher focus groups. The data collected will enable NASA to (1) evaluate the program model for improvement opportunities, and (2) collect outcome data to assess the program model's effectiveness in meeting the intended objectives. Surveys are designed to obtain the minimum information required to meet study objectives.

II. Method of Collection

Electronic and paper.

III. Data

Title: NASA Summer of Innovation Project.

OMB Number: 2700-0150.

Type of review: Revision of currently approved collection.

Affected Public: Individuals or households.

Estimated Number of Respondents: 6,838.

Estimated Time Per Response: Variable.

Estimated Total Annual Burden Hours: 1,173 hours.

Estimated Total Annual Cost: $219,119.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2012-27625 Filed 11-13-12; 8:45 am]

BILLING CODE 7510-13-P